DEPARTMENT OF VETERANS AFFAIRS

Veterans' Family, Caregiver and Survivor Advisory Committee Notice of Meeting

The Department of Veterans Affairs (VA) gives notice under the Federal Advisory Committee Act, 5 U.S.C. ch. 10, that the Veterans' Family, Caregiver and Survivor Advisory Committee will meet on October 25-26, 2023. The meeting sessions will be a hybrid, held in-person at The American Legion, 1608 K Street NW, 7th floor, Washington, DC 20006. The meeting sessions will begin and end as follows:

Date | Time
October 25, 2023 | 9:00 a.m. to 4:30 p.m. Eastern Standard Time (EST).
October 26, 2023 | 9:00 a.m. to 4:30 p.m. EST.

The meeting sessions are open to the public. For interested parties who cannot attend in person, this meeting will also be available by videoconference and by telephone via Microsoft Teams by using the link and dial-in information below. Registration for both in-person and virtual attendance is required.

The purpose of the Committee is to provide advice to the Secretary of Veterans Affairs (SECVA) with respect to the administration of benefits by VA for services to Veterans' families, caregivers and survivors.

On Wednesday, October 25 and Thursday, October 26, 2023, the agenda will include opening remarks from the Executive Director, Caregiver Support Program, Veterans Health Administration (VHA) and the Committee Chair. There will be updates on the Caregiver Support Program; briefings on transitioning from caregiver to survivor; information from the Care Management & Social Work Services; and the annual ethics briefing.

Time will be allocated for receiving public comments on October 25, 2023, 3:30 p.m. to 4:30 p.m. EST. Individuals wishing to make public comments should contact Dr. Betty Moseley Brown, Designated Federal Officer at (210) 392-2505 or VHA12CSPFAC@va.gov and are requested to submit a 1 to 2-page summary of their comments for inclusion in the official meeting record. In the interest of time, each speaker will be held to a 5-minute time limit. The Committee will accept written comments from interested parties on issues outlined in the meeting agenda until Friday, October 20, 2023, at 5:00 p.m. EST. Each public speaker will receive a confirmed time for speaking via email from the Designated Federal Officer.

All attending should register at the following link: https://events.teams.microsoft.com/event/8ae248e2-d50c-4031-831d-9992d91a8f77@dd9d243c-8688-470f-8812-4ceb7ac50b6c by Friday, October 20, 2023, to help expedite the sign-in process. Physical attendees will be asked to sign in within the lobby of the American Legion building, and again upon entry to the 7th floor meeting.

Meeting information as follows: Meeting ID: 212 234 110 896 Passcode: XprGSK Or Call in (audio only) +1 317-610-0468, 414866676#, United States, Indianapolis Phone Conference ID: 414 866 676#

Any member of the public seeking additional information should contact Dr. Betty Moseley Brown, at (210) 392-2505 or Betty.MoseleyBrown@va.gov.

Dated: September 1, 2023.
Jelessa M. Burney,
Federal Advisory Committee Management Officer.

[FR Doc. 2023-19273 Filed 9-6-23; 8:45 am]

BILLING CODE P